CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the President's Volunteer Service Awards (PVSA), parts A, B, C, D and E. Copies of the information collection request can be obtained by contacting the office listed below in the ADDRESSES section of this notice.

DATES: Written comments must be submitted to the office listed in the ADDRESSES section by January 5, 2004.

ADDRESSES: Send comments to: Corporation for National and Community Service, Office of Public Affairs, Attn: Rhonda Taylor, (project officer), 1201 New York Avenue, NW., Washington, DC 20525.

FOR FURTHER INFORMATION CONTACT: Rhonda Taylor, (202) 606-5000, ext. 282, or by e-mail at rtaylor@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology, e.g., permitting electronic submissions of responses.

I. Background

The President's Council on Service and Civic Participation was created by Executive Order 13285 on January 29, 2003. The Council is administered by the Corporation for National and Community Service. Under the Executive Order, the Council is directed to (among other things) design and recommend programs to recognize individuals, schools, and organizations that excel in their efforts to support volunteer service and civic participation, especially with respect to students in primary schools, secondary schools, and institutions of higher learning. The Council will bestow the President's Volunteer Service Award to meet this requirement. In order to recognize individuals, schools and organizations, the program must collect information about the individuals and organizations and their activities to verify that they have earned the award.

The information collected will be used by the program primarily to select winners of the President's Volunteer Service Awards and the Call to Service Awards (4000 hours or more). Individuals or organizations can be nominated by an organization or third party. The nominations will be reviewed for compliance by the administering agency, and awards will be made on that basis. Information also will be used to assure the integrity of the program (so that, for example, an individual or organization does not receive an award twice for the same project), for reporting on the accomplishments of the program, for the public awareness campaign (such as press releases and website information on winning projects), and to further the purposes of the Executive Order (such as fostering partnerships and coordination of projects and to promote civic engagement).

II. Current Action

The Corporation submitted a request for emergency review and approval by OMB of the PVSA on August 8, 2003 with no public comment period. On August 20, 2003, OMB approved the emergency request for a period of six months and assigned OMB Control Number 3045-0086 with an expiration date of February 29, 2004. Therefore, the Corporation is now seeking public comment regarding the President's Volunteer Service Awards, parts A, B, C, D and E.

Type of Review: Renewal.

Agency: Corporation for National and Community Service.

Title: President's Volunteer Service Awards, parts A, B, C, D and E.

OMB Number: 3045-0086.

Agency Number: None.

Affected Public: All citizens of the United States.

Total Respondents: 200,000.

Frequency: On occasion.

Average Time Per Response: 20 minutes.

Estimated Total Burden Hours: 100,000 hours.

Total Burden Cost (capital/startup): 1,654,000.

Total Burden Cost (operating/maintenance): None.

Comments submitted in response to this notice will be summarized and/or included in the request for Office of Management and Budget approval of the information collection request; they will also become a matter of public record.

Dated: October 28, 2003.
Barbara A. Taylor,
Director, Office of Public Affairs.

[FR Doc. 03-27607 Filed 11-3-03; 8:45 am]

BILLING CODE 6050-$$-U